DEPARTMENT OF COMMERCE

International Trade Administration

[A-570-075, C-570-076]

Certain Plastic Decorative Ribbon From the People's Republic of China: Amended Final Affirmative Antidumping Duty Determination and Antidumping Duty Order; and Countervailing Duty Order

AGENCY: Enforcement and Compliance, International Trade Administration, Department of Commerce.

SUMMARY: Based on affirmative final determinations by the Department of Commerce (Commerce) and the International Trade Commission (the ITC), Commerce is issuing antidumping duty (AD) and countervailing duty (CVD) orders on certain plastic decorative ribbon (plastic ribbon) from the People's Republic of China (China). In addition, Commerce is amending its final AD determination of sales at less than fair value (LTFV) as a result of ministerial errors.

DATES: Applicable March 22, 2019.

FOR FURTHER INFORMATION CONTACT: Charlotte Baskin-Gerwitz at (202) 482-4880 (CVD); or Nancy Decker, or Lauren Caserta, at (202) 482-0196, (202) 482-4737, respectively (AD), AD/CVD Operations, Enforcement and Compliance, International Trade Administration, U.S. Department of Commerce, 1401 Constitution Avenue NW, Washington, DC 20230.

SUPPLEMENTARY INFORMATION:

Background

On February 1, 2019, and in accordance with section 735(d) of the Tariff Act of 1930, as amended (the Act), Commerce published its final affirmative determination of sales at LTFV with respect to plastic ribbon from China,¹ and, in accordance with section 705(d) of the Act, Commerce published its final affirmative determination that countervailable subsidies are being provided to producers and exporters of plastic ribbon from China.² On March 1, 2019, we published a Corrected CVD Final Determination for the CVD investigation.³

¹ See Certain Plastic Decorative Ribbon from the People's Republic of China: Final Determination of Sales at Less Than Fair Value, 84 FR 1055 (February 1, 2019), and accompanying Issues and Decision Memorandum (AD Final Determination).

² See Certain Plastic Decorative Ribbon from the People's Republic of China: Final Affirmative Countervailing Duty Determination, 84 FR 1064 (February 1, 2019), and accompanying Issues and Decision Memorandum (CVD Final Determination).

³ See Certain Plastic Decorative Ribbon from the People's Republic of China: Corrected Final Affirmative Countervailing Duty Determination, 84 FR 7019 (March 1, 2019) (Corrected CVD Final Determination).

On February 4 and 5, 2019, Commerce received timely ministerial error allegations in the AD investigation.⁴ On February 13, 2019, Commerce received rebuttal comments to the ministerial error allegations.⁵ See the “Amendment to the AD Final Determination” section below.

⁴ See Letter from Berwick Offray LLC (the petitioner), “Certain Plastic Decorative Ribbon from the People's Republic of China: Ministerial Error Comments,” dated February 4, 2019, and Letter from Dongguan Ricai Plastic Technology Co., Ltd. and Ricai Film Artwork Materials Co., Ltd. (collectively, Ricai), a respondent in the AD investigation, “Plastic Decorative Ribbons from PRC (“Decorative Ribbons”); A-570-075; Ministerial Error Allegation,” dated February 5, 2019.

⁵ See Letter from Ningbo Junlong Craft Gift Co., Ltd. (Junlong), a respondent in the AD investigation, “Certain Plastic Decorative Ribbon from the People's Republic of China—Reply to Ministerial Error Comments,” dated February 13, 2019.

On March 15, 2019, pursuant to sections 735(d) and 705(d) of the Act, the ITC notified Commerce of its affirmative final determination that an industry in the United States is materially injured within the meaning of sections 735(b)(1)(A)(i) and 705(b)(1)(A)(i) of the Act by reason of LTFV imports and subsidized imports of subject merchandise, respectively, from China.⁶

⁶ See ITC Notification Letter to the Acting Assistant Secretary for Enforcement and Compliance referencing ITC Investigation Nos. 701-TA-592 and 731-TA-1400 (March 15, 2019) (ITC Notification).

Scope of the Orders

The product covered by these orders is plastic ribbon from China. For a complete description of the scope of these orders, see the Appendix to this notice.

Amendment to the AD Final Determination

Pursuant to 19 CFR 351.224(e), Commerce is amending the AD Final Determination to correct certain ministerial errors made in the AD Final Determination with respect to Ricai and Junlong.⁷ This amended final AD determination corrects these errors and revises the weighted-average margins that were calculated for Ricai and Junlong. Because the margin for the separate rate companies is based on the rates for Junlong and Ricai, and their rates changed due to the aforementioned ministerial errors, we are revising the margin applicable to the non-individually investigated separate rate companies in this amended final AD determination.⁸ The amended weighted-average margin rates are listed in the “Estimated Weighted-Average Dumping Margins” table below.

⁷ For a detailed discussion, see the Memorandum, “Ministerial Error Memorandum for the Affirmative Final Determination of the Antidumping Duty Investigation of Certain Plastic Decorative Ribbon from the People's Republic of China” dated March 11, 2019 (AD Ministerial Error Memorandum).

⁸ See AD Ministerial Error Memorandum.

Antidumping Duty Order

In accordance with sections 735(b)(1)(A)(i) and 735(d) of the Act, the ITC notified Commerce of its final determination that an industry in the United States is materially injured by reason of imports of plastic ribbon from China that are sold in the United States at LTFV.⁹ Therefore, in accordance with sections 735(c)(2) and 736(a) of the Act, we are issuing this antidumping duty order. Because the ITC determined that imports of plastic ribbon from China are materially injuring a U.S. industry, unliquidated entries of such merchandise from these countries, entered or withdrawn from warehouse for consumption, are subject to the assessment of antidumping duties.

⁹ See ITC Determination.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of plastic ribbon from China. Antidumping duties will be assessed on unliquidated entries of plastic ribbon from China entered, or withdrawn from warehouse, for consumption on or after August 8, 2018, the date of publication of the AD Preliminary Determination,¹⁰ and before February 4, 2019. Section 733(d) of the Act states that the suspension of liquidation pursuant to a preliminary determination may not remain in effect for more than four months except where exporters representing a significant proportion of exports of the subject merchandise request Commerce to extend that four-month period to no more than six months. At the request of Junlong and Dongguan Mei Song Plastic Industry Co., Ltd. (Mei Song), two mandatory respondents that account for a “significant portion” of subject merchandise in the LTFV investigation, we extended the four-month period to no more than six months in this case.¹¹ Therefore, entries of subject merchandise from China made on or after February 4, 2019, and prior to the date of publication of the ITC's final determination in the Federal Register are not liable for the assessment of antidumping duties due to Commerce's discontinuation of the suspension of liquidation.

¹⁰ See Certain Plastic Decorative Ribbon from the People's Republic of China: Preliminary Determination of Sales at Less Than Fair Value, 83 FR 39058 (August 8, 2018) (Preliminary Determination).

¹¹ See Certain Plastic Decorative Ribbon from the People's Republic of China: Postponement of Final Determination of Sales at Less Than Fair Value, 83 FR 40226 (August 14, 2018).

Suspension of Liquidation (AD)

In accordance with section 736 of the Act, we will instruct CBP to reinstitute suspension of liquidation of all appropriate entries of plastic ribbon from China as described in the “Scope of the Orders” section, effective on the date of publication of the ITC's notice of final determination in the Federal Register. Pursuant to section 735(c)(1)(B) of the Act, Commerce will direct CBP to require a cash deposit for each entry of subject merchandise, equal to the weighted-average amount by which the normal value exceeds U.S. price, as indicated in the table below. The cash deposit rates are as follows: (1) For the producer/exporter combinations listed in the table below, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-county exporters of merchandise under consideration not listed in the table below, the cash deposit rate is the cash deposit rate applicable to the Chinese producer/exporter combination (or the China-wide entity) that supplied that third country exporter. These suspension of liquidation instructions will remain in effect until further notice.

Estimated Weighted-Average Dumping Margins

The estimated weighted-average dumping margins are as follows.

Exporter | Producer | Weighted- average dumping margin (percent)
Ningbo Junlong Craft Gift Co., Ltd | Ningbo Junlong Craft Gift Co., Ltd | 132.07
Ricai Film Artwork Materials Co., Ltd | Dongguan Ricai Plastic Technology Co., Ltd | 61.99
Sun Rich (Asia) Ltd | Kai Feng Decoration (Hui Zhou) Co., Ltd | 105.33
Sun Rich (Asia) Ltd | Sheng Yi Decoration (Dong Guan) Co., Ltd | 105.33
Joynice Gifts & Crafts Co., Ltd | Joynice Gifts & Crafts Co., Ltd | 105.33
Chiapton Gifts Decorative Limited | Nan Mei (Huizhou) Ribbon Art Factory Ltd | 105.33
Chiapton Gifts Decorative Limited | Shantou Longhu YingXin Art Craft Factory Co. Ltd | 105.33
Colorart Plastic Ribbon Productions Limited | Colorart Industrial Limited | 105.33
Zhejiang Shaoxing Royal Arts & Crafts Co., Ltd | Santa's Collection Shaoxing Co. Ltd | 105.33
Zhejiang Shaoxing Royal Arts & Crafts Co., Ltd | Zheijang Shaoxing Royal Arts & Crafts Co., Ltd | 105.33
Wingo Gift & Crafts (Shenzhen) Co., Ltd | Wingo Gift & Crafts (Shenzhen) Co., Ltd | 105.33
Seng San Enterprises Co., Ltd | Xin Seng San Handicraft (ShenZhen) Co., Ltd | 105.33
Xiangxin Decoration Factory | Xiangxin Decoration Factory | 105.33
Xinghui Packaging Co., Ltd | Xinghui Packaging Co., Ltd | 105.33
Shenzhen SHS Technology R&D Co., Ltd | Shenzhen SHS Technology R&D Co., Ltd | 105.33
China-Wide Entity |  | 370.04

Countervailing Duty Order

In accordance with section 705(b)(1)(A)(i) and 705(d) of the Act, the ITC notified Commerce of its final determination that an industry in the United States is materially injured by reason of subsidized imports of plastic ribbon from China. As a result, and in accordance with sections 705(c)(2) and 706 of the Act, we are publishing this countervailing duty order.

In accordance with section 706(a) of the Act, Commerce will direct CBP to assess, upon further instruction by Commerce, countervailing duties on unliquidated entries of plastic ribbon from China entered, or withdrawn from warehouse, for consumption on or after June 22, 2018, the date of publication of the CVD Preliminary Determination in the Federal Register,¹² and before October 20, 2018, the effective date on which Commerce instructed CBP to discontinue the suspension of liquidation in accordance with section 703(d) of the Act. Section 703(d) of the Act states that the suspension of liquidation pursuant to a preliminary determination may not remain in effect for more than four months. Entries of plastic ribbons made on or after October 20, 2018, and prior to the date of publication of the ITC's final determination in the Federal Register, are not liable for the assessment of countervailing duties, due to Commerce's discontinuation of the suspension of liquidation.

¹² See Certain Plastic Decorative Ribbon from the People's Republic of China: Preliminary Affirmative Countervailing Duty Determination and Alignment of Final Determination with Final Antidumping Duty Determination, 83 FR 29096 (June 22, 2018) (Preliminary Determination).

Suspension of Liquidation (CVD)

In accordance with section 706 of the Act, we will instruct CBP to reinstitute suspension of liquidation of all appropriate entries of plastic ribbon from China as described in the “Scope of the Orders” section, effective on the date of publication of the ITC's notice of final determination in the Federal Register, and to assess, upon further instruction by Commerce pursuant to section 706(a)(1) of the Act, countervailing duties for each entry of the subject merchandise in an amount based on the net countervailable subsidy rates for the subject merchandise. On or after the date of publication of the ITC's final injury determination in the Federal Register, we will instruct CBP to require, at the same time as importers would normally deposit estimated duties on this merchandise, cash deposits for each entry of subject merchandise equal to the rates listed below. These instructions suspending liquidation will remain in effect until further notice. The all-others rate applies to all producers and exporters of subject merchandise not specifically listed.

Estimated Countervailing Duty Cash Deposit Rates

Company | Subsidy rate (percent)
Seng San Enterprises Co., Ltd. | 18.03
Joynice Gifts & Crafts Co., Ltd | 14.27
Santa's Collection Shaoxing Co., Ltd | 94.67
All-Others | 16.15

Notifications to Interested Parties

This notice constitutes the AD and CVD orders with respect to plastic ribbon from China pursuant to sections 736(a) and 706(a) of the Act, respectively. Interested parties may visit https://enforcement.trade.gov/stats/iastats1.html or contact Commerce's Central Records Unit, Room B8024 of the main Commerce Building, for copies of an updated list of antidumping and countervailing duty orders currently in effect.

These orders and the amended AD Final Determination are published in accordance with sections 706(a), 735(e), 736(a), and 777(i) of the Act, and 19 CFR 351.211(b) and 351.224(e).

Dated: March 19, 2019.
Christian Marsh,
Deputy Assistant Secretary for Enforcement and Compliance.

Appendix

Scope of the Orders

The merchandise covered by these orders is certain plastic decorative ribbon, having a width (measured at the narrowest span of the ribbon) of less than or equal to four (4) inches, but disregarding any features that measure 4 inches or less in width, such as tapering or cutting at the ends or in a bow knot, provided that aggregate length of such features comprises no more than 20% of the length of the ribbon. Subject merchandise includes but is not limited to ribbon wound onto itself; a spool, a core or a tube (with or without flanges); attached to a card or strip; wound into a keg- or egg-shaped configuration; made into bows, bow-like items, or other shapes or configurations; and whether or not packaged or labeled for retail sale. The subject merchandise is typically made of substrates of polypropylene, but may be made in whole or in part of any type of plastic, including without limitation, plastic derived from petroleum products and plastic derived from cellulose products. Unless the context otherwise clearly indicates, the word “ribbon” used in the singular includes the plural and the plural “ribbons” includes the singular.

The subject merchandise includes ribbons comprised of one or more layers of substrates made, in whole or in part, of plastics adhered to each other, regardless of the method used to adhere the layers together, including without limitation, ribbons comprised of layers of substrates adhered to each other through a lamination process. Subject merchandise also includes ribbons comprised of (a) one or more layers of substrates made, in whole or in part, of plastics adhered to (b) one or more layers of substrates made, in whole or in part, of non-plastic materials, including, without limitation, substrates made, in whole or in part, of fabric.

The ribbons subject to these orders may be of any color or combination of colors (including without limitation, ribbons that are transparent, translucent or opaque) and may or may not bear words or images, including without limitation, those of a holiday motif. The subject merchandise includes ribbons with embellishments and/or treatments, including, without limitation, ribbons that are printed, hot-stamped, coated, laminated, flocked, crimped, die-cut, embossed (or that otherwise have impressed designs, images, words or patterns), and ribbons with holographic, metallic, glitter or iridescent finishes.

Subject merchandise includes “pull-bows” an assemblage of ribbons connected to one another, folded flat, and equipped with a means to form such ribbons into the shape of a bow by pulling on a length of material affixed to such assemblage, and “pre-notched” bows, an assemblage of notched ribbon loops arranged one inside the other with the notches in alignment and affixed to each other where notched, and which the end user forms into a bow by separating and spreading the loops circularly around the notches, which form the center of the bow. Subject merchandise includes ribbons that are packaged with non-subject merchandise, including ensembles that include ribbons and other products, such as gift wrap, gift bags, gift tags and/or other gift packaging products. The ribbons are covered by the scope of these orders; the “other products” (i.e., the other, non-subject merchandise included in the ensemble) are not covered by the scope of these orders.

Excluded from the scope of these orders are the following: (1) Ribbons formed exclusively by weaving plastic threads together; (2) ribbons that have metal wire in, on, or along the entirety of each of the longitudinal edges of the ribbon; (3) ribbons with an adhesive coating covering the entire span between the longitudinal edges of the ribbon for the entire length of the ribbon; (4) ribbon formed into a bow without a tab or other means for attaching the bow to an object using adhesives, where the bow has: (a) An outer layer that is either flocked, made of fabric, or covered by any other decorative coating such as glitter (whether of plastic or non-plastic materials), and (b) a flexible metal wire at the base which permits attachment to an object by twist-tying; (5) elastic ribbons, meaning ribbons that elongate when stretched and return to their original dimension when the stretching load is removed; (6) ribbons affixed as a decorative detail to non-subject merchandise, such as a gift bag, gift box, gift tin, greeting card or plush toy, or affixed (including by tying) as a decorative detail to packaging containing non subject merchandise; (7) ribbons that are (a) affixed to non-subject merchandise as a working component of such non-subject merchandise, such as where the ribbon comprises a book marker, bag cinch, or part of an identity card holder, or (b) affixed (including by tying) to non-subject merchandise as a working component that holds or packages such non-subject merchandise or attaches packaging or labeling to such non-subject merchandise, such as a “belly band” around a pair of pajamas, a pair of socks or a blanket; (8) imitation raffia made of plastics having a thickness not more than one (1) mil when measured in an unfolded/untwisted state; (9) cords, i.e., multiple strands of materials that have been braided, gimped or twisted together; and (10) ribbons in the form of bows having a diameter of less than seven-eighths (⅞) of an inch, or having a diameter of more than 16 inches, based on actual measurement. For purposes of this exclusion, the diameter of a bow is equal to the diameter of the smallest circular ring through which the bow will pass without compressing the bow.

The scope of these orders excludes shredded plastic film or shredded plastic strip, in each case where the shred does not exceed 5 mm in width and does not exceed 18 inches in length.

The scope of these orders excludes plastic garlands and plastic tinsel garlands, imported in lengths of not less than three (3) feet. The longitudinal base of these garlands may be made of wire or non-wire material, and these garlands may include plastic die-cut pieces. Also excluded are items made of plastic garland and/or plastic tinsel where the items do not have a tab or other means for attaching the item to an object using adhesives. This exclusion does not apply to plastic garland bows, plastic tinsel bows, or other bow-like products made of plastic garland or plastic tinsel.

The scope of these orders excludes ribbons made exclusively of fabric formed by weaving or knitting threads together, or by matting, condensing or pressing fibers together to create felt fabric, regardless of thread or fiber composition, including without limitation, fabric ribbons of polyester, nylon, acrylic or terylene threads or fibers. This exclusion does not apply to plastic ribbons that are flocked.

The scope of these orders excludes ribbons having a width of less than three (3) mm when incorporated by weaving into mesh material (whether flat or tubular) or fabric ribbon (meaning ribbon formed by weaving all or any of the following: Man-made fibers, natural fibers, metal threads and/or metalized yarns), in each case only where the mesh material or fabric ribbon is imported in the form of a decorative bow or a decorative bow-like item.

Further, excluded from the scope of the antidumping duty order are any products covered by the existing antidumping duty order on polyethylene terephthalate film, sheet, and strip (PET Film) from the People's Republic of China (China). See Polyethylene Terephthalate Film, Sheet, and Strip from Brazil, the People's Republic of China and the United Arab Emirates: Antidumping Duty Orders and Amended Final Determination of Sales at Less Than Fair Value for the United Arab Emirates, 73 FR 66595 (November 10, 2008).

Merchandise covered by these orders is currently classified in the Harmonized Tariff Schedule of the United States (HTSUS) under subheadings 3920.20.0015 and 3926.40.0010. Merchandise covered by these orders also may enter under subheadings 3920.10.0000; 3920.20.0055; 3920.30.0000; 3920.43.5000; 3920.49.0000; 3920.62.0050; 3920.62.0090; 3920.69.0000; 3921.90.1100; 3921.90.1500; 3921.90.1910; 3921.90.1950; 3921.90.4010; 3921.90.4090; 3926.90.9996; 5404.90.0000; 9505.90.4000; 4601.99.9000; 4602.90.0000; 5609.00.3000; 5609.00.4000; and 6307.90.9889. These HTSUS subheadings are provided for convenience and customs purposes; the written description of the scope of these orders is dispositive.

[FR Doc. 2019-05520 Filed 3-21-19; 8:45 am]

BILLING CODE 3510-DS-P